DEPARTMENT OF COMMERCE

National Oceanic and Atmospheric Administration

RIN 0648-XY28

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Pacific Council and its advisory entities will meet September 10-16, 2010. The Pacific Council meeting will begin on Saturday, September 11, 2010, at 8 a.m., reconvening each day through Thursday, September 16, 2010. All meetings are open to the public, except a closed session, which will be held from 8 a.m. until 9 a.m. on Saturday, September 11 to address litigation and personnel matters. The Pacific Council will meet as late as necessary each day to complete its scheduled business.

ADDRESSES: Meetings of the Pacific Council and its advisory entities will be held at the Doubletree Hotel Riverside, 2900 Chinden Boulevard, Boise, ID 83714; telephone: 208-343-1871. The Pacific Council address is Pacific Fishery Management Council, 7700 NE Ambassador Place, Suite 101, Portland, OR 97220.

FOR FURTHER INFORMATION CONTACT: Dr. Donald O. McIsaac, Executive Director; telephone: 503-820-2280 or 866-806-7204 toll free; or access the Pacific Council website, http://www.pcouncil.org for the current meeting location, proposed agenda, and meeting briefing materials.

SUPPLEMENTARY INFORMATION: The following items are on the Pacific Council agenda, but not necessarily in this order:

A. Call to Order

1. Opening Remarks and Introductions

2. Council Member Appointments

3. Roll Call

4. Executive Director's Report

5. Approve Agenda

B. Open Comment Period

1. Comments on Non-Agenda Items

C. Salmon Management

1. 2010 Salmon Methodology Review

2. Fishery Management Plan a.m.endment 16, Annual Catch Limits and Accountability Measures

3. Mitchell Act Hatchery Environmental Impact Statement

4. National Marine Fisheries Service Report

5. Salmon Essential Fish Habitat Review

D. Pacific Halibut Management

1. 2010 Pacific Halibut Regulations

2. Proposed Procedures for Estimating Pacific Halibut Bycatch in the Groundfish Fisheries

3. Initial Consideration of Proposed Changes to Pacific Halibut Allocation for Bycatch and Catch Sharing in the Groundfish Fisheries

E. Habitat

1. Current Habitat Issues

2. National Marine Fisheries Service National Habitat Plan Briefing

F. Marine Protected Areas

1. Update and Further Review of the National System of Marine Protected Areas

G. Administrative Matters

1. Briefing on Marine Spatial Planning

2. Legislative Matters

3. Approval of Council Meeting Minutes

4. Fiscal Matters

5. Membership Appointments and Council Operating Procedures

6. Future Council Meeting Agenda and Workload Planning

H. Ecosystem Management

1. Ecosystem Fishery Management Plan

I. Groundfish Management

1. Groundfish Essential Fish Habitat Review

2. Consideration of Inseason Adjustments

3. Preliminary Review of Exempted Fishing Permits for 2011

4. National Marine Fisheries Service Report

5. Status and Follow-up on Implementation of Adendment 20 (Trawl Rationalization) and Amendment 21 (Intersector Allocation)

6. Potential Trailing Actions to Amendment 20 on Trawl Rationalization

7. Further Consideration of Inseason Adjustment, if Necessary

J. Coastal Pelagic Species Management

1. Terms of Reference for Stock Assessment and Methodology Review Panels

K. Highly Migratory Species Management

1. National Marine Fisheries Service Report

2. Changes to Routine Management Measures for 2011-2012

3. Recommendations to International Fishery Management Organizations

Schedule of Ancillary Meetings
Friday, September 10, 2010 |
Salmon Advisory Subpanel | 8 a.m.
Salmon Technical Team/Salmon Amendment Committee Joint Session | 8 a.m.
Scientific and Statistical Committee | 8 a.m.
Budget Committee | 1 p.m.
Legislative Committee | 2:30 p.m.
Saturday, September 11, 2010 |
California State Delegation | 7 a.m.
Oregon State Delegation | 7 a.m.
Washington State Delegation | 7 a.m.
Groundfish Advisory Subpanel | 8 a.m.
Groundfish Management Team | 8 a.m.
Habitat Committee | 8 a.m.
Salmon Advisory Subpanel | 8 a.m.
Salmon Technical Team | 8 a.m.
Scientific and Statistical Committee | 8 a.m.
Enforcement Consultants | 4:30 p.m.
Council Chair's Reception | 6 p.m.
Sunday, September 12, 2010 |
California State Delegation | 7 a.m.
Oregon State Delegation | 7 a.m.
Washington State Delegation | 7 a.m.
Groundfish Advisory Subpanel | 8 a.m.
Groundfish Management Team | 8 a.m.
Habitat Committee | 8 a.m.
Enforcement Consultants | As Necessary
Monday, September 13, 2010 | a.m.
California State Delegation | 7 a.m.
Oregon State Delegation | 7 a.m.
Washington State Delegation | 7 a.m.
Groundfish Advisory Subpanel | 8 a.m.
Groundfish Management Team | 8 a.m.
Enforcement Consultants | As Necessary
Tuesday, September 14, 2010 |
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As Necessary
Wednesday, September 15, 2010 |
California State Delegation | 7 a.m.
Oregon State Delegation | 7 a.m.
Washington State Delegation | 7 a.m.
Groundfish Advisory Subpanel | 8 a.m.
Groundfish Management Team | 8 a.m.
Highly Migratory Species Advisory Subpanel | 8 a.m.
Highly Migratory Species Management Team | 8 a.m.
Enforcement Consultants | As Necessary
Thursday, September 16, 2010 |
California State Delegation | 7 a.m.
Oregon State Delegation | 7 a.m.
Washington State Delegation | 7 a.m.
Enforcement Consultants | As Necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Carolyn Porter at 503-820-2280 at least five days prior to the meeting date.

Dated: August 16, 2010.
William D. Chappell,
Acting Director, Office of Sustainable Fisheries, National Marine Fisheries Service.

[FR Doc. 2010-20547 Filed 8-18-10; 8:45 am]

BILLING CODE 3510-22-S